DEPARTMENT OF THE TREASURY

Internal Revenue Service

26 CFR Part 1

[REG-129709-03]

RIN-1545-BC34

Prohibited Allocations of Securities in an S Corporation

AGENCY: Internal Revenue Service (IRS), Treasury.

ACTION: Change of date for public hearing on proposed rulemaking by cross-reference to temporary regulations.

SUMMARY: This document provides notice of a change of date for the public hearing on proposed regulations by cross-reference to temporary regulations under sections 409(p), and 409(p)(5).

DATES: The public hearing is being held on Monday, November 17, 2003 at 10 a.m. Outline of oral comments must be received by October 27, 2003.

ADDRESSES: The public hearing is being held in room 6718, Internal Revenue Building, 1111 Constitution Avenue, NW., Washington, DC. Send submissions to: CC:PA:LPD:PR (REG-129709-03), Room 5203, Internal Revenue Service, POB 7604, Ben Franklin Station, Washington, DC 20044. Submissions may be hand delivered between the hours of 8 a.m. and 5 p.m. to: CC:PA:LPD:PR (REG-129709-03), Courier's Desk, Internal Revenue Service, 1111 Constitution Avenue NW., Washington, DC. Alternatively, taxpayers may submit an outline of oral comments electronically directly to the IRS Internet site at http://www.irs.gov/regs.

FOR FURTHER INFORMATION: Concerning the regulations, John Ricotta (202) 622-6060; concerning submissions, Sonya M. Cruse (202) 622-4693 (not a toll-free number).

SUPPLEMENTARY INFORMATION:

Background

A notice of proposed rulemaking by cross-reference to temporary regulations and notice of public hearing appearing in the Federal Register on Monday, July 21, 2003 (68 FR 43058), announced that a public hearing on proposed rulemaking by cross-reference to temporary regulations that provided guidance on identifying disqualified persons and determining whether a plan year is a nonallocation year under section 409(p) and on the definition of synthetic equity under section 409 (p)(5) would be held on Thursday, November 20, 2003, in room 6718, Internal Revenue Building 1111 Constitution Avenue, NW., Washington, DC. Subsequently, the date of the public hearing has been changed to Monday, November 17, 2003. Written or electronic comments must be received by October 17, 2003. Outlines of oral comments must be received by October 27, 2003.

LaNita Van Dyke,
Paralegal Specialist, Publications and Regulations Branch, Legal Processing Division, Associate Chief Counsel (Procedure and Administration).

[FR Doc. 03-21965 Filed 8-27-03; 8:45 am]

BILLING CODE 4830-01-P